NUCLEAR REGULATORY COMMISSION

[Docket No. 72-8; NRC-2010-0011]

Constellation Energy; Notice of Docketing of Special Nuclear Material License SNM-2505 Amendment Application for the Calvert Cliffs Independent Spent Fuel Storage Installation

AGENCY: Nuclear Regulatory Commission.

ACTION: Notice of license amendment application.

DATES: A request for hearing and/or petition for leave to intervene must be filed by March 15, 2010.

FOR FURTHER INFORMATION CONTACT: John Goshen, Project Manager, Licensing Branch, Division of Spent Fuel Storage and Transportation, Office of Nuclear Material Safety and Safeguards, U.S. Nuclear Regulatory Commission, Washington, DC 20555-0001. Telephone: (301) 492-3325; Fax number: (301) 492-3348; E-mail: john.goshen@nrc.gov.

SUPPLEMENTARY INFORMATION:

I. Introduction

The U.S. Nuclear Regulatory Commission (NRC or Commission) is considering an application dated June 15, 2009, from Constellation Energy (Constellation) to amend its Special Nuclear Material License No. SNM-2505, under the provisions of 10 CFR Part 72, for the receipt, possession, storage, and transfer of spent fuel, reactor-related Greater than Class C (GTCC) waste and other radioactive materials associated with spent fuel storage at the Calvert Cliffs Independent Spent Fuel Storage Installation (ISFSI), located at the Calvert Cliffs Nuclear Power Plant site in Calvert County, Maryland. If granted, the revised license will authorize the applicant to allow fuel with a higher burnup to be stored at the Calvert Cliffs ISFSI. This application was docketed under 10 CFR Part 72; the ISFSI Docket No. is 72-8 and will remain the same for this action.

An NRC review, documented in a letter to Constellation dated July 21, 2009, found that the application contains sufficient information for the NRC staff to begin its technical review. The Commission will approve the license amendment if it determines that the application meets the standards and requirements of the Atomic Energy Act of 1954, as amended (the Act) and the Commission's regulations, including the findings required by 10 CFR 72.40. These findings will be documented in a Safety Evaluation Report. The NRC has completed an environmental evaluation, in accordance with 10 CFR Part 51, and determined that preparation of an environmental impact statement is not warranted because there are no radiological environmental impacts due to granting the approval of the amendment.

II. Opportunity To Request a Hearing

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2), and provide notice of the action taken and an opportunity for interested persons to request a hearing on whether the action should be rescinded or modified.

III. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: License Amendment Request dated June 15, 2009 (ML091680541) and the acceptance review letter dated July 21, 2009 (ML092020003). If you do not have access to ADAMS or if there are problems in accessing the documents located in ADAMS, contact the NRC Public Document Room (PDR) Reference staff at 1-800-397-4209, 301-415-4737 or by e-mail to pdr.resource@nrc.gov.

These documents may also be viewed electronically on the public computers located at the NRC's PDR, O1 F21, One White Flint North, 11555 Rockville Pike, Rockville, MD 20852. The PDR reproduction contractor will copy documents for a fee.

Dated at Rockville, Maryland, this 6th day of January 2010.
For the Nuclear Regulatory Commission.
John Goshen,
Project Manager, Licensing Branch, Division of Spent Fuel Storage and Transportation, Office of Nuclear Material Safety and Safeguard.

[FR Doc. 2010-567 Filed 1-13-10; 8:45 am]

BILLING CODE 7590-01-P